FEDERAL COMMUNICATIONS COMMISSION

Sunshine Act Meeting; Open Commission Meeting Wednesday, December 15, 2004

December 8, 2004.

The Federal Communications Commission will hold an Open Meeting on the subjects listed below on Wednesday, December 15, 2004, which is scheduled to commence at 9:30 a.m. in Room TW-C305, at 445 12th Street, SW., Washington, DC.

Item No. | Bureau | Subject
1 | Office of Engineering and Technology | Title: Revision of Part 15 of the Commission's Rules Regarding Ultra-Wideband Transmission Systems (ET Docket No. 98-153).
|  | Summary: The Commission will consider a Second Report and Order and Second Memorandum Opinion and Order concerning unlicensed operation. This item responds to proposals made in the previous Notice of Proposed Rulemaking and addresses the petitions for reconsideration filed in response to the previous Memorandum Opinion and Order in this proceeding.
2 | International | Title: Procedures to Govern the Use of Satellite Earth Stations on Board Vessels in the 5925-6425 MHz/3700-4200 MHz Bands and 14.0-14.5 GHz/11.7-12.2 GHz Bands (IB Docket No. 02-10).
|  | Summary: The Commission will consider a Report and Order establishing licensing and service rules for Earth Stations on Vessels operating in the 5925-6425 MHz/3700-4200 MHz (C-Band) and 14.0-14.5/11.7-12.2 GHz (Ku-band) frequencies.
3 | Wireless Tele-Communications | Title: Amendment of Part 22 of the Commission's Rules to Benefit the Consumers of Air-Ground Telecommunications Services (WT Docket No. 03-103); Biennial Regulatory Review-Amendment of Parts 1, 22, and 90 of the Commission's Rules; Amendment of Parts 1 and 22 of the Commission's Rules to Adopt Competitive Bidding Rules for Commercial and General Aviation Air-Ground Radiotelephone Service Mutually Exclusive Applications; and Application of Verizon Airfone Inc. for Renewal of 800 MHz Air-Ground Radiotelephone License, Call Sign KNKG804.
|  | Summary: The Commission will consider a Report and Order and Further Notice of Proposed Rulemaking regarding commercial air-ground telecommunications service, Part 22 non-cellular Public Mobile Service rules, and general aviation air-ground radiotelephone service mutually exclusive applications. The Commission also will consider the Application of Verizon Airfone for renewal of 800 MHz Air-Ground Radiotelephone license call sign KNKG804.
4 | Wireless Tele-Communications | Title: Amendment of the Commission's Rules to Facilitate the Use of Cellular Telephones and other Wireless Devices Aboard Airborne Aircraft.
|  | Summary: The Commission will consider a Notice of Proposed Rulemaking regarding changes to the rule prohibiting the airborne use of cellular telephones.
5 | Wireline Competition | Title: Rural Health Care Support Mechanism (WC Docket No. 02-60).
|  | Summary: The Commission will consider a Second Report and Order, Order on Reconsideration, and Further Notice of Proposed Rulemaking concerning modifications to the Commission's rules to improve the effectiveness of the rural health care universal service support mechanism.
6 | Wireline Competition | Title: Unbundled Access to Network Elements (WC Docket No. 04-313) and Review of the Section 251 Unbundling Obligations of Incumbent Local Exchange Carriers (CC Docket No. 01-338).
|  | Summary: The Commission will consider an Order on Remand concerning incumbent local exchange carriers' obligations to make elements of their networks available on an unbundled basis.

Additional information concerning this meeting may be obtained from Audrey Spivack or David Fiske, Office of Media Relations, (202) 418-0500; TTY 1-888-835-5322. Audio/Video coverage of the meeting will be broadcast live over the Internet from the FCC's Audio/Video Events web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 04-27435 Filed 12-10-04; 12:32 pm]

BILLING CODE 6712-01-P